DEPARTMENT OF COMMERCE

National Oceanic and Atmospheric Administration

50 CFR Part 635

RIN 0648-XF700

Atlantic Highly Migratory Species; Atlantic Bluefin Tuna Fisheries

AGENCY: National Marine Fisheries Service (NMFS), National Oceanic and Atmospheric Administration (NOAA), Commerce.

ACTION: Notification that the Northeast Distant Area (NED) quota is filled and Atlantic Tunas Longline Category Individual Bluefin Quota (IBQ) accounting rules now apply in the NED.

SUMMARY: NMFS announces that the 25-mt quota available for Atlantic bluefin tuna bycatch (including landings and dead discards) by the Longline category in the Northeast Distant gear restricted area (NED) was filled on September 12, 2017. NMFS informs vessels fishing in the NED that they now must account for any bluefin tuna bycatch retained or discarded dead using Individual Bluefin Quota (IBQ) allocation available to the vessel.

DATES: This notification is valid from September 12, 2017 to December 31, 2017.

FOR FURTHER INFORMATION CONTACT: Tom Warren or Brad McHale, 978-281-9260.

SUPPLEMENTARY INFORMATION: Regulations implemented under the authority of the Atlantic Tunas Convention Act (ATCA; 16 U.S.C. 971 et seq.) and the Magnuson-Stevens Fishery Conservation and Management Act (Magnuson-Stevens Act; 16 U.S.C. 1801 et seq.) governing the harvest of bluefin tuna by persons and vessels subject to U.S. jurisdiction are found at 50 CFR part 635. Section 635.27 subdivides the U.S. bluefin tuna quota recommended by the International Commission for the Conservation of Atlantic Tunas (ICCAT) among the various domestic fishing categories per the allocations established in the 2006 Consolidated Highly Migratory Species Fishery Management Plan (2006 Consolidated HMS FMP) (71 FR 58058, October 2, 2006), as amended by Amendment 7 to the 2006 Consolidated HMS FMP (Amendment 7) (79 FR 71510, December 2, 2014).

The total U.S. bluefin tuna annual quota from ICCAT includes, as in previous years, a 25-mt set-aside for bluefin tuna bycatch related to pelagic longline fisheries operating in the vicinity of the ICCAT management area boundary. See ICCAT Recommendation 14-05 and 80 FR 52198 (August 28, 2015) (implementing the quota domestically). For management and monitoring purposes, NMFS implements this set-aside in the NED as quota available to Atlantic Tunas Longline category permitted vessels. Longline is not a permitted gear for directed fishing on bluefin tuna; any catch must be incidental to fishing for other species. Accounting for this bycatch includes all catch (landings and dead discards). The NED is defined as the Atlantic Ocean area bounded by straight lines connecting the following coordinates in the order stated: 35°00′ N. lat., 60°00′ W. long.; 55°00′ N. lat., 60°00′ W. long.; 55°00′ N. lat., 20°00′ W. long.; 35°00′ N. lat., 20°00′ W. long.; 35°00′ N. lat., 60°00′ W. long.

The IBQ Program and the Northeast Distant Area (NED)

Under Amendment 7, rules were implemented for Atlantic Tunas Longline category permitted vessels fishing in the NED. See 50 CFR 635.15(b)(8). Any bluefin tuna bycatch by permitted vessels fishing with pelagic longline gear in the NED count toward the ICCAT-allocated separate NED quota (25 mt) until that quota has been filled. Prior to the NED quota being filled, the bluefin tuna accounting requirements of the IBQ Program do not apply to those vessels, under the provisions adopted in Amendment 7. Once the NED quota is filled, Atlantic Tunas Longline category permitted vessels may fish or continue to fish in the NED, but these vessels must then abide by the applicable requirements of the IBQ program, which requires individual vessel accounting for bluefin tuna bycatch using IBQ allocation available to the vessel (either through its own quota share or leasing allocation from another vessel). Bluefin tuna must be accounted for as described at § 635.15(b)(4) and (5).

Based on Atlantic bluefin tuna dealer data and IBQ system data, as of September 12, 2017, 40,763 lb (18.5 mt) of bluefin tuna has been landed, and 254 lb (0.1 mt) of bluefin tuna has been discarded dead in the NED; an additional 21 bluefin tuna have been reported as retained through Vessel Monitoring System (VMS) bluefin tuna catch reports. These 21 retained bluefin tuna reported via VMS equate to approximately 13,230 lb (6.0 mt) of catch (based on the average weight of recently landed bluefin from the NED), which brings the total estimated bluefin tuna catch from the NED to 54,247 lb (24.6 mt). Based on these data, NMFS has determined that the 25 mt set-aside has been filled as of September 12, 2017.

Because the NED quota has been caught, vessels are notified that they must account for any bycatch of bluefin tuna (landings and/or dead discards) in the NED using IBQ allocation as specified in the regulations. § 635.15(b)(8). NMFS has determined that the NED quota of 25 mt was attained as of September 12, 2017. Thus, the IBQ online system will start accounting for bluefin tuna bycatch from the NED utilizing IBQ as of that date.

NMFS will continue to monitor bluefin tuna bycatch by vessels fishing with pelagic longline gear using VMS and dealer data, as well as monitor the accounting for such catch in the IBQ system, to ensure that vessels are accountable for their individual bluefin bycatch and that quotas are managed consistent with the 2006 Consolidated HMS FMP and U.S. international quota obligations. For fishery updates, fishermen may call the Atlantic Tunas Information Line at (888) 872-8862 or (978) 281-9260, access the following internet address: www.hmspermits.noaa.gov.

Authority: 16 U.S.C. 971 et seq. and 1801 et seq.

Dated: September 14, 2017.
Alan D. Risenhoover,
Director, Office of Sustainable Fisheries, National Marine Fisheries Service.

[FR Doc. 2017-19914 Filed 9-14-17; 4:15 pm]

BILLING CODE 3510-22-P